DEPARTMENT OF HEALTH AND HUMAN SERVICES

Health Resources and Services Administration

Agency Information Collection Activities; Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Evaluating the Impact of 1115 Medicaid Waivers on Ryan White HIV/AIDS Program and Its Clients and Providers OMB No. 0915-xxxx—NEW

Abstract: Section 1115 of the Social Security Act allows states to develop, test, and implement new approaches to providing Medicaid coverage outside of federal program rules. Leading up to full implementation of the Affordable Care Act, states have begun to use Section 1115 Medicaid demonstration waivers as a “bridge” to 2014. This project will examine 1115 Medicaid waivers that have expanded eligibility to include specifically people living with HIV/AIDS (PLWH) who are not otherwise eligible for Medicaid services. Since 1990, the Ryan White HIV/AIDS Program (RWHAP) has provided funding for primary care, medications, and support services for PLWH, helping fill the health care and service gap for those who are uninsured or ineligible for Medicaid.

As part of this project, case studies will be conducted in eight states that have implemented 1115 Medicaid waivers to expand Medicaid eligibility for PLWH. The case studies will include site visits and discussions with the state Medicaid programs and with RWHAP grantees and service providers to examine the waivers and their impact on PLWH. In addition, the studies will explore whether and how the 1115 Medicaid waivers have helped states and RWHAP grantees and providers prepare for implementation of the Affordable Care Act, including providing insights into Medicaid expansion.

Need and Proposed Use of the Information: Given the important role of the RWHAP and Medicaid in meeting the health care needs of PLWH, there is a need to understand better, how Medicaid expansion and the 1115 Medicaid waivers will affect the RWHAP and how the waivers have prepared states for implementation of the Affordable Care Act.

Likely Respondents: Data will be collected through qualitative interviews, guided by discussion tools with questions tailored for four specific groups of individuals from: (1) State Medicaid agencies; (2) RWHAP Part B grantees and service providers; (3) RWHAP Part A grantees and service providers; and (4) and RWHAP White Part C grantees and clinical providers.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Qualitative Interview Data Collection Tool for State Medicaid Agency Groups | 40 | 1 | 40 | 2 | 80
Qualitative Interview Data Collection Tool for Ryan White Part A Administrators and Members of Planning Councils | 64 | 1 | 64 | 2 | 128
Qualitative Interview Data Collection Tool for Ryan White Part A Administrators and Members of Planning Councils | 16 | 1 | 16 | 2 | 32
Qualitative Interview Data Collection Tool for Ryan White Part B and ADAP (AIDS Directors, Part B Coordinators and ADAP Coordinators) | 80 | 1 | 80 | 2 | 160
Qualitative Interview Data Collection Tool for Ryan White Clinical Providers (RW Part C Grantees in clinical settings or Similar Clinical Care Providers) | 80 | 1 | 80 | 2 | 160
Total | 280 |  |  |  | 560

Dated: July 3, 2013.
Bahar Niakan,
Director, Division of Policy and Information Coordination.

[FR Doc. 2013-16599 Filed 7-9-13; 8:45 am]

BILLING CODE 4165-15-P